DEPARTMENT OF TRANSPORTATION

Federal Aviation Administration

14 CFR Part 39

[Docket No. FAA-2024-2332; Project Identifier MCAI-2022-01479-R; Amendment 39-22950; AD 2025-03-02]

RIN 2120-AA64

Airworthiness Directives; Airbus Helicopters

AGENCY: Federal Aviation Administration (FAA), DOT.

ACTION: Final rule.

SUMMARY: The FAA is adopting a new airworthiness directive (AD) certain Airbus Helicopters Model AS332C, AS332C1, AS332L, AS332L1, AS332L2, AS355E, AS355F, AS355F1, AS355F2, AS355N, AS355NP, AS-365N2, AS 365 N3, EC 155B, EC155B1, EC225LP, SA-365N, and SA-365N1 helicopters. This AD was prompted by a report of an unintentional activation of the hoist shear-button (shear-button) on the collective pitch handle during a night flight. This AD requires checking the operation of the shear-button safety-cap on each applicable collective pitch handle and prohibits installing certain part-numbered collective pitch handles or collective sticks with those part-numbered collective pitch handles installed unless certain requirements are met. The FAA is issuing this AD to address the unsafe condition on these products.

DATES: This AD is effective March 7, 2025.

ADDRESSES: AD Docket: You may examine the AD docket at regulations.gov under Docket No. FAA-2024-2332; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Dan McCully, Aviation Safety Engineer, FAA, 1600 Stewart Avenue, Suite 410, Westbury, NY 11590; phone: (404) 474-5548; email: william.mccully@faa.gov.

SUPPLEMENTARY INFORMATION:

Background

The FAA issued a notice of proposed rulemaking (NPRM) to amend 14 CFR part 39 by adding an AD that would apply to Airbus Helicopters AS332C, AS332C1, AS332L, AS332L1, AS332L2, AS355E, AS355F, AS355F1, AS355F2, AS355N, AS355NP, AS-365N2, AS 365 N3, EC 155B, EC155B1, EC225LP, SA-365N, and SA-365N1 helicopters, with a collective pitch handle installed on a pilot or co-pilot collective stick having part number 704A41-1100-42, 704A41-1100-50, 704A41-1100-56, 704A41-1100-57, 704A41-1100-60, 704A41-1100-67, 704A41-1100-68, 704A41-1100-97, 704A41-1100-98, 704A41-1100-99, 704A41-1101-14, 704A41-1101-30, or 704A41-1101-32, as applicable to the model helicopter. The NPRM published in the Federal Register on October 16, 2024 (89 FR 83437). The NPRM was prompted by European Union Aviation Safety Agency (EASA) AD 2022-0220, dated November 16, 2022 (EASA AD 2022-0220) (also referred to as the MCAI), issued by EASA, which is the Technical Agent for the Member States of the European Union. The MCAI advises of a report of an inadvertent activation of the shear-button on a collective pitch handle occurring during a night flight when the pilot was turning on the headlight adjacent to the shear-button, which is protected by a safety-cap that is fitted with a spring. Additionally, the MCAI states that further investigation determined aging of the spring may have led to improper functioning of the safety-cap.

In the NPRM, the FAA proposed to require checking the spring of the collective pitch handle for correct positioning of the shear-button safety-cap and, depending on the results, replacing the spring or deferring replacement of the spring and installing a placard and prohibiting night flying during the deferment. The owner/operator (pilot) holding at least a private pilot certificate may perform this check and must enter compliance with the applicable paragraphs of this AD into the helicopter maintenance records in accordance with 14 CFR 43.9(a) and 91.417(a)(2)(v). The pilot may perform this check because it only involves lifting the safety-cap and verifying whether it automatically returns to an intended position. This check could be performed equally well by a pilot or a mechanic. This is an exception to the FAA's standard maintenance regulations.

In the NPRM, the FAA also proposed to prohibit installing certain part-numbered collective pitch handles or collective sticks with those part-numbered collective pitch handles installed unless the operational check and, as applicable, corrective action, is done, or it is a new collective pitch handle.

The FAA is issuing this AD to detect and address fatigue of the spring in the shear-button safety-cap on the left and right collective pitch handles, which, if not addressed, could result in an unintended shearing of the hoist cable and subsequent injury to the hoisted person.

You may examine the MCAI in the AD docket at regulations.gov under Docket No. FAA-2024-2332.

Discussion of Final Airworthiness Directive

Comments

The FAA received comments from three anonymous commenters. Two of the anonymous commenters did not request any changes to the NPRM or to the determination of costs. One of the anonymous commenters proposed an alternative to the placard option. The following presents the comments received on the NPRM and the FAA's response to the comment.

Request To Change an Alternate Action

One commenter requested that the FAA require a latching mechanism for the shear-button cap instead of the alternate action of installing a placard that states that night hoist operations are prohibited because, according to the commenter, a latching mechanism provides better protection from inadvertent activation of the shear-button. The commenter stated that the deferment of replacing the spring by installing a placard is inadequate because a pilot could unintentionally press the shear-button when turning on the headlights, whereas a latch-secured cap cannot move until the latch is unfastened.

The FAA disagrees. The NPRM was prompted by a single a report of an unintentional activation of the shear-button due to a malfunctioning spring of the safety cap. Although a latching mechanism may provide an additional layer of prevention to inadvertent switch actuation, the number of reported incidents does not justify a design change as a corrective measure. Additionally, ensuring the spring closure is fully functional and installing a placard to restrict the use of the hoist at night is adequate to mitigate the risk of an inadvertent actuation of the shear-button and will have minimal impact on operators.

Additional Changes Made to This AD

Since the NPRM published, the FAA determined that the Parts Installation Limitations paragraph (paragraph (h) of the proposed AD) inadvertently omitted the alternative actions to defer replacing the spring. Accordingly, the FAA has revised the Parts Installation Limitations paragraph of this AD to allow the alternative actions to defer replacing the spring.

Conclusion

These products have been approved by the aviation authority of another country and are approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on these products. Except for minor editorial changes and any other changes described previously, this AD is adopted as proposed in the NPRM. None of the changes will increase the economic burden on any operator.

Differences Between This AD and the MCAI

EASA AD 2022-0220 specifies a one-time inspection of the spring, whereas this AD requires repetitively inspecting the spring at intervals not to exceed 12 months time-in-service.

EASA AD 2022-0220 allows deferring replacement of a deficient spring provided that a placard prohibiting use of the hoist at night is installed, all flight crew are informed and, thereafter, that the helicopter is operated accordingly, whereas this AD does not require informing any flight crew. Compliance with such requirements in an AD is impracticable to demonstrate or track on an ongoing basis; therefore, an AD requirement to inform all flight crew is unenforceable.

Costs of Compliance

The FAA estimates that this AD affects 66 helicopters of U.S. Registry. Labor rates are estimated at $85 per work-hour. Based on these numbers, the FAA estimates the following costs to comply with this AD.

Checking each safety-cap will take 1 work-hour for an estimated cost of up to $85 per helicopter and $5,610 for the U.S. fleet, per check cycle.

If required, replacing a spring will take 1 work-hour and parts will cost $25 for an estimated cost of $110 per replacement.

Fabricating and installing a placard will take 0.5 work-hour and parts will cost $25 for an estimated cost of $68 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-03-02 Airbus Helicopters: Amendment 39-22950; Docket No. FAA-2024-2332; Project Identifier MCAI-2022-01479-R.

(a) Effective Date

This airworthiness directive (AD) is effective March 7, 2025.

(b) Affected ADs

None.

(c) Applicability

This AD applies to Airbus Helicopters AS332C, AS332C1, AS332L, AS332L1, AS332L2, AS355E, AS355F, AS355F1, AS355F2, AS355N, AS355NP, AS-365N2, AS 365 N3, EC 155B, EC155B1, EC225LP, SA-365N, and SA-365N1 helicopters, certificated in any category, with a collective pitch handle installed on a pilot or co-pilot collective stick having part number (P/N) 704A41-1100-42, 704A41-1100-50, 704A41-1100-56, 704A41-1100-57, 704A41-1100-60, 704A41-1100-67, 704A41-1100-68, 704A41-1100-97, 704A41-1100-98, 704A41-1100-99, 704A41-1101-14, 704A41-1101-30, or 704A41-1101-32, installed, as applicable to the model helicopter.

(d) Subject

Joint Aircraft System Component (JASC) Code 2510, Flight compartment equipment.

(e) Unsafe Condition

This AD was prompted by a report of an unintentional activation of the hoist shear-button (shear-button) on the collective pitch handle during a night flight. The FAA is issuing this AD to detect and address fatigue of the spring in the shear-button safety-cap on the left and right collective pitch handles. The unsafe condition, if not addressed, could result in an unintended shearing of the hoist cable and subsequent injury to the hoisted person.

(f) Compliance

Comply with this AD within the compliance times specified, unless already done.

(g) Required Actions

(1) For helicopters identified in paragraph (c) of this AD that have a hoist installed, within 50 hours time-in-service (TIS) after the effective date of this AD, and thereafter at intervals not to exceed 12 months TIS, check the operation of the shear-button safety-cap on each applicable collective pitch handle by accomplishing the actions required by paragraphs (g)(1)(i) through (iii) of this AD, as applicable. The owner/operator (pilot) holding at least a private pilot certificate may perform the checks required by paragraphs (g)(1)(i) through (iii) of this AD and must enter compliance with these paragraphs into the helicopter maintenance records in accordance with 14 CFR 43.9(a) and 91.417(a)(2)(v). The record must be maintained as required by 14 CFR 91.417, 121.380, or 135.439.

(i) Place your thumb under the safety-cap and lift the safety-cap to a less-than halfway position. Remove your thumb and verify that the safety-cap goes to the fully open position or that the safety-cap returns to the fully closed position. Repeat these actions no less than two more times. If the safety-cap stays in the less-than halfway position, or the safety-cap does not fully close or fully open during any instance of the actions required by this paragraph, before further flight, a person authorized under 14 CFR 43.3 must accomplish the actions required by paragraph (g)(2) of this AD.

(ii) Place your thumb under the safety-cap and lift the safety-cap to a halfway position. Remove your thumb and verify that the safety-cap goes to the fully open position or that the safety-cap returns to the fully closed position. Repeat these actions no less than two more times. If the safety-cap stays in the halfway position, or the safety-cap does not fully close or fully open during any instance of the actions required by this paragraph, before further flight, a person authorized under 14 CFR 43.3 must accomplish the actions required by paragraph (g)(2) of this AD.

(iii) Place your thumb under the safety-cap and lift the safety-cap to a more-than halfway position. Remove your thumb and verify the safety-cap goes to the fully open position or that the safety-cap returns to the fully closed position. Repeat these actions no less than two more times. If the safety-cap stays in the more-than halfway position, or the safety-cap does not fully close or fully open during any instance of the actions required by this paragraph, before further flight, a person authorized under 14 CFR 43.3 must accomplish the actions required by paragraph (g)(2) of this AD.

(2) If the safety-cap stays in the less-than halfway, halfway, or more-than halfway position, or the safety-cap does not fully close or fully open during any instance of the actions required by paragraphs (g)(1)(i) through (iii) of this AD, before further flight, remove the spring from service and replace it with an airworthy spring.

(3) As an alternative to replacing the spring as required by paragraph (g)(2) of this AD, accomplish the actions required by paragraphs (g)(3)(i) and (ii) of this AD.

(i) Before further flight, fabricate a placard with a font size greater than or equal to 4 mm (.157 in), stating the following: “NIGHT HOIST OPERATIONS PROHIBITED.” The placard must have a red background with white font color or a white background with red font color. The placard must not be erasable and must be attached to the instrument panel, visible to the pilot and co-pilot.

(ii) Within 150 hours TIS after accomplishing the actions required by paragraph (g)(3)(i) of this AD, remove the spring of the safety-cap from service and replace it with an airworthy spring, and remove the placard from service.

(4) For helicopters identified in paragraph (c) of this AD that do not have a hoist installed, before installation of a hoist's removable parts on the helicopter, accomplish the check and as applicable, corrective action, required by paragraphs (g)(1) through (3) of this AD.

(h) Parts Installation Limitations

As of the effective date of this AD, do not install on any helicopter a collective pitch handle having a P/N identified in paragraph (c) of this AD, or any pilot or co-pilot collective stick with a collective pitch handle having a P/N identified in paragraph (c) of this AD installed, unless the check and as applicable, corrective action, required by paragraphs (g)(1) through (3) of this AD have been done or the collective pitch handle is new (zero total hours TIS).

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: AMOC@faa.gov.

(2) Before using any approved AMOC, notify your appropriate principal inspector, or lacking a principal inspector, the manager of the local flight standards district office/certificate holding district office.

(j) Additional Information

For more information about this AD, contact Dan McCully, Aviation Safety Engineer, FAA, 1600 Stewart Avenue, Suite 410, Westbury, NY 11590; phone: (404) 474-5548; email: william.mccully@faa.gov.

(k) Material Incorporated by Reference

None.

Issued on January 27, 2025.
Victor Wicklund,
Deputy Director, Compliance & Airworthiness Division, Aircraft Certification Service.

[FR Doc. 2025-02027 Filed 1-30-25; 8:45 am]

BILLING CODE 4910-13-P